NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that 11 meetings of the Humanities Panel will be held during September, 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506, or as otherwise indicated. See SUPPLEMENTARY INFORMATION section for further information.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: September 09, 2013.

Time: 8:30 a.m. to 5:00 p.m.

Room: 302.

This meeting will discuss applications for the Humanities Initiatives at Historically Black Colleges and Universities, submitted to the Division of Education Programs.

2. Date: September 09, 2013.

Time: 8:30 a.m. to 5:00 p.m.

Room: 421.

This meeting will discuss applications on the subject of Asia for the Bridging Cultures through Film grant program, submitted to the Division of Public Programs.

3. Date: September 10, 2013.

Time: 8:30 a.m. to 5:00 p.m.

Room: 421.

This meeting will discuss applications on the subject of Europe for the Bridging Cultures through Film grant program, submitted to the Division of Public Programs.

4. Date: September 10, 2013.

Time: 8:30 a.m. to 5:00 p.m.

Room: 302.

This meeting will discuss applications for the Humanities Initiatives at Tribal Colleges and Universities grant program, submitted to the Division of Education Programs.

5. Date: September 11, 2013.

Time: 8:30 a.m. to 5:00 p.m.

Room: 302.

This meeting will discuss applications for the Humanities Initiatives at Hispanic-Serving Institutions grant program, submitted to the Division of Education Programs.

6. Date: September 12, 2013.

Time: 8:30 a.m. to 5:00 p.m.

Room: 421.

This meeting will discuss applications on the subject of the Americas for the Bridging Cultures through Film grant program, submitted to the Division of Public Programs.

7. Date: September 12, 2013.

Time: 8:30 a.m. to 5:00 p.m.

Location: Netherlands Organisation for Scientific Research, Laan van Nieuw Oost-Indië 300, The Hague, The Netherlands NL-2593 CE.

This meeting will discuss applications for the Digging into Data Challenge grant program, submitted to the Office of Digital Humanities.

8. Date: September 12, 2013.

Time: 8:30 a.m. to 5:00 p.m.

Location: Netherlands Organisation for Scientific Research, Laan van Nieuw Oost-Indië 300, The Hague, The Netherlands NL-2593 CE.

This meeting will discuss applications for the Digging into Data Challenge grant program, submitted to the Office of Digital Humanities.

9. Date: September 13, 2013.

Time: 8:30 a.m. to 5:00 p.m.

Location: Netherlands Organisation for Scientific Research, Laan van Nieuw Oost-Indië 300, The Hague, The Netherlands NL-2593 CE.

This meeting will discuss applications for the Digging into Data Challenge grant program, submitted to the Office of Digital Humanities.

10. Date: September 13, 2013.

Time: 8:30 a.m. to 5:00 p.m.

Location: Netherlands Organisation for Scientific Research, Laan van Nieuw Oost-Indië 300, The Hague, The Netherlands NL-2593 CE.

This meeting will discuss applications for the Digging into Data Challenge grant program, submitted to the Office of Digital Humanities.

11. Date: September 16, 2013.

Time: 8:30 a.m. to 5:00 p.m.

Room: 421.

This meeting will discuss applications on the subjects of Africa and the Middle East for the Bridging Cultures through Film grant program, submitted to the Division of Public Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: August 8, 2013.
Lisette Voyatzis,
Committee Management Officer.

[FR Doc. 2013-19694 Filed 8-13-13; 8:45 am]

BILLING CODE 7536-01-P